DEPARTMENT OF STATE

[Public Notice 6174]

Announcement of Meetings of the International Telecommunication Advisory Committee

SUMMARY: This notice announces meetings of the International Telecommunication Advisory Committee (ITAC) to receive advice from its ad hoc groups tasked with developing draft advice for the Department of State's positions on telecommunications matters to be taken at meetings of the International Telecommunication Union (ITU), the Organization for Economic Co-operation and Development (OECD), the Asia-Pacific Economic Community (APEC), and the Inter-American Telecommunication Commission (CITEL), and to review the ITAC industry advisory process supporting the activities of the Department of State at the ITU Radiocommunication Sector (ITU-R) and conducted in accordance with the Federal Advisory Committee Act (FACA).

The ITAC will meet on May 14, 2008 2:30-4:30 p.m. Eastern Daylight Time to review the ITAC FACA industry advisory process supporting the activities of the Department of State at the ITU-R, and to receive advice drafted by various ad hoc groups on telecommunications positions to be taken at meetings of the ITU, OECD, APEC, and CITEL.

The ITAC will meet on July 16, 2008, 2:30-4:30p.m. Eastern Daylight Time to review and approve the work performed by the ITAC ad hoc groups preparing advice for meetings of the three sectors of the ITU, OECD, APEC, and CITEL.

Both these meetings will be held at the offices of AT&T at 1120 20th Street, NW., suite 1000, Washington, DC. These meetings are open to the public as seating capacity allows. The public will have an opportunity to provide comments at these meetings. A conference bridge will be available for attendees outside the Washington Metro Area. Conference bridge information is available from the secretariat at minardje@state.gov and (202) 647-3234. People desiring further information on these meetings may apply to the secretariat.

Dated: April 4, 2008.
Richard C. Beaird,
International Communications & Information Policy, Department of State.

[FR Doc. E8-8155 Filed 4-15-08; 8:45 am]

BILLING CODE 4710-07-P